DEPARTMENT OF ENERGY

Federal Energy Regulatory Commission

Notice of Staff Attendance at The Solar Energy Industries Association's Clean Energy Security and Reliability Forum

The Federal Energy Regulatory Commission hereby gives notice that members of the Commission and/or Commission staff may attend the following forum:

The Solar Energy Industries Association's (SEIA) Clean Energy Security and Reliability Forum:

George R Brown Convention Center, 1001 Avenida De Las Americas, Houston, TX 77010

May 15, 2024 | 12:00 p.m.-5:00 p.m. Central

May 16, 2024 | 8:00 a.m.-3:00 p.m. Central

Further information regarding this forum may be found at: https://na.eventscloud.com/website/68177/.

The discussions at the above forum, which is open to the public, may address matters at issue in the following Commission proceedings:

Docket Nos. RR24-2-000 North American Electric Reliability Corporation, RD24-5-000 Cold Weather Reliability Standards

For further information, please contact Chanel Chasanov, 202-502-8569, or chanel.chasanov@ferc.gov.

Dated: April 29, 2024.
Debbie-Anne A. Reese,
Acting Secretary.

[FR Doc. 2024-09684 Filed 5-2-24; 8:45 am]

BILLING CODE 6717-01-P